ENVIRONMENTAL PROTECTION AGENCY

[EPA-HQ-OPPT-2018-0605; FRL-9987-41]

Request for Comments on the Experts Nominated To Be Considered for Ad Hoc Participation and Possible Membership on the Toxic Substances Control Act (TSCA), Science Advisory Committee on Chemicals (SACC)

AGENCY: Environmental Protection Agency (EPA).

ACTION: Notice.

SUMMARY: EPA is requesting public review and welcomes comments on the scientific experts nominated to be considered for ad hoc participation and possible membership on the Toxic Substances Control Act (TSCA) Science Advisory Committee on Chemicals (SACC). Nominations that were received in response to a prior notice are being considered for ad hoc participation on an as needed basis for the TSCA SACC's peer reviews of the EPA's risk evaluations for chemical substances addressed under the TSCA. In addition, all nominees are under consideration for TSCA SACC membership to fulfill short term needs when a vacancy occurs on the chartered Committee.

DATES: Submit comments on or before January 14, 2019.

ADDRESSES: Submit your comments, identified by docket identification (ID) number EPA-HQ-OPPT-2018-0605, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Dr. Todd Peterson, DFO, Office of Science Coordination and Policy (7201M), Environmental Protection Agency, 1200 Pennsylvania Ave. NW, Washington, DC 20460-0001; telephone number: (202) 564-6428; email address: peterson.todd@epa.gov.

SUPPLEMENTARY INFORMATION:

I. General Information

A. Does this action apply to me?

This action is directed to the public in general. This action may, however, be of interest to persons who are or may be required to conduct testing and risk evaluations of chemical substances under the Toxic Substances Control Act (TSCA). Since other entities may also be interested, the Agency has not attempted to describe all the specific entities that may be affected by this action.

B. List of Nominees and Affiliations

Brief biographical sketches of nominees to be considered for ad hoc participation and possible membership on the TSCA SACC are posted on the TSCA SACC website at http://www.epa.gov/tsca-peer-review or may be obtained from the OPPT Docket at http://www.regulations.gov.

C. What should I consider as I prepare my comments regarding nominees for EPA?

1. Submitting CBI. Do not submit CBI information to EPA through regulations.gov or email. If your comments contain any information that you consider to be CBI or otherwise protected, please contact the DFO listed under FOR FURTHER INFORMATION CONTACT to obtain special instructions before submitting your comments.

2. Comments regarding nominees to be considered for ad hoc participation and possible membership on the TSCA SACC. As part of the broader process for developing a pool of candidates, the Office of Science Coordination and Policy (OSCP) staff solicited nominations from the public and stakeholder communities of prospective candidates for service as ad hoc reviewers and possibly members of TSCA SACC (“Request for Nominations of Experts To Consider for ad hoc Participation and Possible Membership on the Toxic Substances Control Act (TSCA), Science Advisory Committee on Chemicals (SACC)”, Federal Register 83:178 (September 13, 2018) p. 46487).

The list of nominees to be considered for ad hoc participation and possible membership on the TSCA SACC will be posted on the TSCA SACC website at http://www.epa.gov/tsca-peer-review or may be obtained from the OPPT Docket at http://www.regulations.gov. EPA requests that the public provide information on the nominees that will assist the Agency when selecting ad hoc participants and members for the TSCA SACC.

All comments must be provided to the docket number EPA-HQ-OPPT-2018-0605 on or before January 14, 2019. Please follow the instructions for electronic submission of comments to the docket available at http://www.regulations.gov. Questions should be directed to the DFO listed under FOR FURTHER INFORMATION CONTACT on or before January 14, 2019.

II. Background

The Science Advisory Committee on Chemicals (SACC) was established by EPA in 2016 under the authority of the Frank R. Lautenberg Chemical Safety for the 21st Century Act, Public Law 114-182, 140 Stat. 448 (2016), and operates in accordance with the Federal Advisory Committee Act (FACA) of 1972. The SACC supports activities under the Toxic Substances Control Act (TSCA), 15 U.S.C. 2601 et seq., the Pollution Prevention Act (PPA), 42 U.S.C. 13101 et seq., and other applicable statutes. The SACC provides independent scientific advice and recommendations to the EPA on the scientific and technical aspects of risk assessments, methodologies, and pollution prevention measures and approaches for chemicals regulated under TSCA.

The SACC is comprised of experts in: Toxicology; environmental risk assessment; exposure assessment; and related sciences (e.g., synthetic biology, pharmacology, biotechnology, nanotechnology, biochemistry, biostatistics, PBPK modeling, computational toxicology, epidemiology, environmental fate, and environmental engineering and sustainability). The SACC currently consists of 26 members. When needed, the committee will be assisted in their reviews by ad hoc reviewers with specific expertise in the topics under consideration.

Through a prior Federal Register notice (“Request for Nominations of Experts to Consider for ad hoc Participation and Possible Membership on the Toxic Substances Control Act (TSCA), Science Advisory Committee on Chemicals (SACC)” (83 FR 46487, September 13, 2018), EPA sought nominations to create a pool of experts who can be available to the SACC to assist in reviews conducted by the Committee. EPA anticipates selecting experts from this pool, as needed, to assist the SACC in their review of EPA's risk evaluations for the chemical substances addressed under the TSCA: 1,4-Dioxane, Asbestos; Cyclic Aliphatic Bromide Cluster (HBCD); 1-Bromopropane; Perchloroethylene; Trichloroethylene; Carbon Tetrachloride; Methylene Chloride; and n-Methylpyrolidone.

In addition, EPA anticipates selecting from this pool of experts, as needed, to appoint SACC members to fulfill short term needs when a vacancy occurs on the Committee due to resignation or reasons other than expiration of a term.

Authority: 15 U.S.C. 2625 et seq.; 5 U.S.C. Appendix 2 et seq.

Dated: December 7, 2018.
Stanley Barone, Jr.,
Acting Director, Office of Science Coordination and Policy.

[FR Doc. 2018-27155 Filed 12-13-18; 8:45 am]

BILLING CODE 6560-50-P